DEPARTMENT OF COMMERCE

Foreign-Trade Zones Board

[B-36-2014]

Proposed Foreign-Trade Zone—Eastern Coachella Valley, California Under Alternative Site Framework

An application has been submitted to the Foreign-Trade Zones (FTZ) Board by the Four Winds Foreign Trade Zone Corporation to establish a foreign-trade zone at sites in the eastern Coachella Valley area of Riverside and Imperial Counties, California, adjacent to the Calexico U.S. Customs and Border Protection (CBP) port of entry, under the alternative site framework (ASF) adopted by the FTZ Board (15 CFR Sec. 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on April 29, 2014. The applicant is authorized to make the proposal under California statute 6301-6305.

The proposed zone would be the second zone for the Calexico CBP port of entry. The existing zone is: FTZ 257, Imperial County, California (Grantee: County of Imperial, California, Board Order 1286, October 9, 2003, 68FR 61393, 10/28/2003).

The applicant's proposed service area under the ASF would include portions of Riverside and Imperial Counties, California, as described in the application. If approved, the applicant would be able to serve sites throughout the service area based on companies' needs for FTZ designation. The proposed service area is adjacent to the Calexico CBP port of entry.

The proposed zone would include two “magnet” sites: Proposed Site 1 (2,353 acres)—Jacqueline Cochran Regional Airport, 56-850 Higgins Drive, Thermal; and, Proposed Site 2 (1,160 acres)—Torres/Martinez/Desert/Cahuilla Indians tribally-owned land, Hayes Street and 64th Avenue, Riverside County. The ASF allows for the possible exemption of one magnet site from the “sunset” time limits that generally apply to sites under the ASF, and the applicant proposes that Site 2 be so exempted.

The application indicates a need for zone services in the eastern Coachella Valley of California. Several firms have indicated an interest in using zone procedures for warehousing/distribution activities for a variety of products. Specific production approvals are not being sought at this time. Such requests would be made to the FTZ Board on a case-by-case basis.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is July 7, 2014. Rebuttal comments in response to material submitted during the foregoing period may be submitted during the subsequent 15-day period to July 21, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at Christopher.Kemp@trade.gov or (202) 482-0862.

Dated: April 29, 2014.
Andrew McGilvray,
Executive Secretary.

[FR Doc. 2014-10351 Filed 5-5-14; 8:45 am]

BILLING CODE 3510-DS-P